NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—Materials Research Science and Engineering Center (MRSEC) Site Visit University of Minnesota (DMR) (#1203).

Date and Time: April 8, 2024; 7:30 a.m.-6:45 p.m.; April 9, 2024; 8:00 a.m.-3:45 p.m.

Place: University of Minnesota, 615 Washington Ave. SE, Minneapolis, MN 55414.

Type of Meeting: Part-Open.

Contact Person: Dr. Cosima Boswell-Koller, Program Director, National Science Foundation, 2415 Eisenhower Ave., Alexandria, VA 22314; Telephone: 703-292-4959.

Purpose of Meeting: NSF site visit to conduct a review during year 4 of the award period as stipulated in the cooperative agreement.

Agenda: To conduct an in depth evaluation of performance, to assess progress towards goals, and to provide recommendations.

Monday, April 8, 2024

7:30 a.m.-12:05 p.m.—Executive Sessions (Closed)

12:05 p.m.-1:00 p.m.—Lunch (Open)

1:00 p.m.-2:30 p.m.—Executive Sessions (Closed)

2:30 p.m.-3:30 p.m.—Facilities Overview and Lab Tour (Closed)

3:30 p.m.-5:00 p.m.—Poster Session (Open)

5:00 p.m.-6:45 p.m.—Executive Sessions (Closed)

Tuesday, April 9, 2024

8:00 a.m.-3:45 p.m.—Executive Sessions (Closed)

Reason for Closing: The program being reviewed during the site review will include information of a proprietary or confidential nature, including technical information; financial data, such as salaries, and personal information concerning individuals associated with the program. These matters are exempt under 5 U.S.C. 552b(c), (4) and (6) of the Government in the Sunshine Act.

Dated: February 14, 2024.
Crystal Robinson,
Committee Management Officer.

[FR Doc. 2024-03421 Filed 2-20-24; 8:45 am]

BILLING CODE 7555-01-P